ENVIRONMENTAL PROTECTION AGENCY

[FRL-7054-2]

Agency Information Collection Activities: Submission for OMB Review; Comment Request; Clean Water Act State Revolving Fund Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Clean Water Act State Revolving Fund Program, OMB Control Number 2040-0118, and expiration date of 09/30/01. The ICR describes the nature of the information collection and its expected burden and cost; where appropriate, it includes the actual data collection instrument.

DATES: Comments must be submitted on or before October 11, 2001.

ADDRESSES: Send comments, referencing EPA ICR No. 1391.06 and OMB Control No. 2040-0118, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by email at Auby.susan@epamail.epa.gov, or download off the Internet at http://www.epa.gov/icr and refer to EPA ICR No. 1391.06. For technical questions about the ICR contact Nelson L. Price at (202) 564-0602.

SUPPLEMENTARY INFORMATION: Title: Clean Water Act State Revolving Fund Program; OMB Control No. 2040-0118; EPA ICR No. 1391.06; expiring on 09/30/01. This is a request for an extension of a currently approved collection.

Abstract: The Clean Water Act, as amended by “The Water Quality Act of 1987” (U.S.C. 1381-1387 et seq.), created a Title VI which authorizes grants to States for the establishment of State Water Pollution Control Revolving Funds (SRFs). The information activities are pursuant to Section 606 of the Act, and SRF Interim Final Rule (March 1990).

The 1987 Act declares that water pollution control revolving loan funds shall be administered by an instrumentality of the State subject to the requirements of the Act. This means that each State has a general responsibility for administering its revolving fund and must take on certain specific responsibilities in carrying out its administrative duties. The information collection activities will occur primarily at the program level through the Capitalization Grant Application and Agreement/Intended Use Plan, Annual Report, State Audit, and Financial Assistance Application Review.

The State must prepare a Capitalization Grant Application and Agreement that includes an Intended Use Plan (IUP) outlining in detail how it will use the program funds. The agreement is an instrument by which the State commits to manage its revolving fund program.

The State must agree to complete and submit an Annual Report on the uses of the fund. The report will indicate how activities financed will contribute toward meeting the goals and objectives and provides information on loan recipients, loan amounts, loan terms and project categories of eligible costs.

The State will conduct or have conducted a financial audit of its CWSRF program. The audit report will contain an opinion on the financial statements of the CWSRF, a report on its internal controls, and a report on whether the compliance requirements have been met.

Since the States provide assistance to local applicants, the States will review completed loan applications and verify that proposed projects meet all applicable Federal and State requirement.

EPA will use the Capitalization Grant Agreement and Application / Intended Use Plan, Annual Report, and Annual Audit to conduct its oversight responsibilities as mandated by the CWA.

An agency may not conduct or sponsor, and a person is not required to respond to, a collection of information unless it displays a currently valid OMB control number. The OMB control numbers for EPA's regulations are listed in 40 CFR Part 9 and 48 CFR Chapter 15. The Federal Register document required under 5 CFR 1320.8(d), soliciting comments on this collection of information was published on 04/03/01 (FRL-6960-6); no comments were received.

Burden Statement

The annual public reporting and record keeping burden for this collection of information is estimated to average 2,515 hours per State response and 60 hours per local community response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Fifty states, Puerto Rico, and the recipients of assistance in these jurisdictions.

Estimated Number of Respondents: 2,295.

Frequency of Response: Annually.

Estimated Total Annual Hour Burden: 262,905 hours.

Estimated Total Annualized Capital, O&M Cost Burden: $0.

Send comments on the Agency's need for this information, the accuracy of the provided burden estimates, and any suggested methods for minimizing respondent burden, including through the use of automated collection techniques to the addresses listed above. Please refer to EPA ICR No. 1391.06 and OMB Control No. 2040-0118 in any correspondence.

Dated: August 30, 2001.
Oscar Morales,
Director, Collection Strategies Division.

[FR Doc. 01-22750 Filed 9-10-01; 8:45 am]

BILLING CODE 6560-50-P